ENVIRONMENTAL PROTECTION AGENCY

[EPA-HQ-OPPT-2024-0131; FRL-12261-02-OCSPP]

Risk Management Under the Toxic Substances Control Act: Certain Per- and Polyfluoroalkyl Substances; Extension of Comment Period

AGENCY: Environmental Protection Agency (EPA).

ACTION: Notice; extension of comment period.

SUMMARY: The Environmental Protection Agency (EPA) is extending the comment period for the notice that published in the Federal Register on September 30, 2024, seeking public comment on the manufacture of certain per- and polyfluoroalkyl substances (PFAS), including perfluorooctanoic acid (PFOA), perfluorononanoic acid (PFNA), and perfluorodecanoic acid (PFDA), during the fluorination of high-density polyethylene (HDPE) and other plastic containers to inform regulations as appropriate under the Toxic Substances Control Act (TSCA). That notice established a public comment period that is scheduled to end on November 29, 2024. This document extends that comment period for 31 days to December 30, 2024. EPA received a request to extend the comment period from an interested stakeholder who requested additional time to collect information relating to EPA's notice and develop thoughtful responses to the issues raised in EPA's notice. EPA believes it is appropriate to extend the comment period in order to give stakeholders including the requester additional time to identify and gather information related to the issues identified in EPA's notice and to prepare comprehensive comments.

DATES: The comment period for the document published on September 30, 2024, at 89 FR 79581 (FRL-12261-01-OCSPP), is now extended. Comments must be received on or before December 30, 2024.

ADDRESSES: Submit your comments, identified by docket identification (ID) number EPA-HQ-OPPT-2024-0131, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: Thomas Groeneveld, Existing Chemicals Risk Management Division, Office of Pollution Prevention and Toxics, Environmental Protection Agency, 1200 Pennsylvania Ave. NW, Washington, DC 20460-0001; telephone number: (202) 566-1188; email address: groeneveld.thomas@epa.gov.

For general information contact: The TSCA-Hotline, ABVI-Goodwill, 422 South Clinton Ave., Rochester, NY 14620; telephone number: (202) 554-1404; email address: TSCA-Hotline@epa.gov.

SUPPLEMENTARY INFORMATION: EPA is hereby extending the comment period established in the Federal Register document of September 30, 2024 (89 FR 79581) (FRL-12261-01-OCSPP), to give stakeholders additional time to review that document, identify and gather relevant information, and prepare comments. EPA is extending the comment period, which was set to end on November 29, 2024, to December 30, 2024.

To submit comments or access the docket, please follow the detailed instructions provided under ADDRESSES. If you have questions, consult the technical person listed under FOR FURTHER INFORMATION CONTACT.

Authority: 15 U.S.C. 2605.

Dated: November 15, 2024.
Michal Freedhoff,
Assistant Administrator, Office of Chemical Safety and Pollution Prevention.

[FR Doc. 2024-27111 Filed 11-19-24; 8:45 am]

BILLING CODE 6560-50-P